FEDERAL RESERVE SYSTEM

Consumer Advisory Council; Notice of Meeting

The Consumer Advisory Council will meet on Thursday, March 10, 2011. The meeting, which will be open to public observation, will take place at the Federal Reserve Board's offices in Washington, DC, in Dining Room E on the Terrace Level of the Martin Building. For security purposes, anyone planning to attend the meeting should register no later than Tuesday, March 8, by completing the form found online at: https://www.federalreserve.gov/secure/forms/cacregistration.cfm.

Attendees must present photo identification to enter the building and should allow sufficient time for security processing.

The meeting will begin at 9 a.m. and is expected to conclude at 12:15 p.m. The Martin Building is located on C Street, NW., between 20th and 21st Streets.

The Council's function is to advise the Board on the exercise of the Board's responsibilities under various consumer financial services laws and on other matters on which the Board seeks its advice. Time permitting, the Council will discuss the following topics:

• Foreclosure issues

Members will discuss loss-mitigation efforts, including the Administration's Home Affordable Modification Program, servicing issues related to foreclosures, and the development of national mortgage servicing standards.

• Neighborhood stabilization and REO issues

Members will discuss issues related to the disposition of real estate owned (REO) properties, the impact of foreclosed and vacant properties on communities, and neighborhood stabilization strategies.

• Proposed rules regarding debit card interchange fees and routing

Members will discuss the Board's proposed new Regulation II, which would establish debit card interchange fee standards and prohibit network exclusivity arrangements and routing restrictions as required by the Dodd-Frank Act.

Reports by committees and other matters initiated by Council members also may be discussed.

Persons wishing to submit views to the Council on any of the above topics may do so by sending written statements to Jennifer Kerslake, Secretary of the Consumer Advisory Council, Division of Consumer and Community Affairs, Board of Governors of the Federal Reserve System, Washington, DC 20551. Information about this meeting may be obtained from Ms. Kerslake at 202-452-6470.

Board of Governors of the Federal Reserve System, February 16, 2011.
Jennifer J. Johnson,
Secretary of the Board.

[FR Doc. 2011-3843 Filed 2-18-11; 8:45 am]

BILLING CODE 6210-01-P